DEPARTMENT OF AGRICULTURE

Food Safety and Inspection Service

[Docket No. FSIS-2020-0025]

Salmonella—State of the Science

AGENCY: Food Safety and Inspection Service, USDA.

ACTION: Notification of public meeting.

SUMMARY: The Food Safety and Inspection Service (FSIS) is hosting a virtual public meeting with participation from the Agricultural Research Service (ARS), the U.S. Food and Drug Administration (FDA), and the Centers for Disease Control and Prevention (CDC). FSIS will discuss the Agency's commitment to reducing Salmonella contamination associated with FSIS-regulated products and thus saving lives, by leading with science, building relationships, and influencing behavior change. Industry, interested individuals, organizations, and other stakeholders are invited to participate in the meeting and to comment on the data and science that drive FSIS Salmonella reduction efforts.

DATES: The virtual public meeting will be held on Tuesday, September 22, 2020, from 9 a.m. to 3:15 p.m. EST. Submit comments on or before September 25, 2020.

ADDRESSES: The meeting is virtual and will be viewed via the web-ex link provided by email when you register for the meeting. Attendees must be pre-registered for the meeting. See the pre-registration instructions under “Registration and Meeting Materials.”

Comments on this notice may be submitted by one of the following methods:

Federal eRulemaking Portal: This website provides commenters the ability to type short comments directly into the comment field on the web page or to attach a file for lengthier comments. Go to http://www.regulations.gov. Follow the on-line instructions at that site for submitting comments.

Mail, including CD-ROMs, etc.: Send to Docket Clerk, U.S. Department of Agriculture, Food Safety and Inspection Service, 1400 Independence Avenue SW, Mailstop 3758, Room 6065, Washington, DC 20250-3700.

Hand- or courier-delivered submittals: Deliver to 1400 Independence Avenue SW, Room 6065, Washington, DC 20250-3700.

Instructions: All items submitted by mail or electronic mail must include the Agency name and docket number FSIS-2020-0025. Comments received in response to this docket will be made available for public inspection and posted without change, including any personal information, to http://www.regulations.gov.

Docket: For access to background documents or comments received, email docketclerk@usda.gov or call 202-692-4235 to schedule a time to visit the FSIS Docket Room at 1400 Independence Avenue SW, Room 6065, Washington, DC 20250-3700.

FOR FURTHER INFORMATION CONTACT: Email Congressional and Public Affairs at FRN@usda.gov. Attendees requiring a sign language interpreter or other special accommodations should notify Evelyn Arce by calling 202-418-8903 or emailing Evelyn.Arce@usda.gov.

SUPPLEMENTARY INFORMATION:

Background

The daily work of implementing the Federal Meat Inspection Act (FMIA), Poultry Products Inspection Act (PPIA), and the Egg Products Inspection Act (EPIA) is carried out by FSIS inspectors in over 6,500 establishments across the country. Although not always apparent to the public, there are many other components of the Agency that support the work of the field personnel in addressing foodborne pathogens. While the scope of FSIS authority to enforce FMIA, PPIA, and EPIA is centered on the meat, poultry, and egg products industries, the activities of the Agency drive change along the entire farm-to-fork continuum to protect our food supply. Food safety is a shared responsibility, and FSIS, in partnership with the greater food safety community ensures that safe and wholesome foods are on our dinner table and in our restaurants, schools, and institutions every day.

FSIS aggressively targets all foodborne pathogens of importance within their regulatory authority, including Salmonella. As food safety challenges evolve, FSIS will use the latest science and data to modernize inspection systems, laboratory and sampling methods, and communications to protect public health and meet consumers' needs. FSIS is focused on improving the Agency's ability to predict, detect, and reduce pathogens while encouraging industry to adopt the latest technology and innovations to produce a safer product. At the same time, FSIS is working to ensure that consumers are empowered with information on how to safely handle, cook, and store food.

Salmonella is a leading cause of foodborne illness, and outbreaks of Salmonella illness have been linked to poultry, pork, and beef products. Using outbreak data through 2017, the Interagency Food Safety Analytics Collaboration estimates that approximately 38 percent of foodborne salmonellosis in the United States can be attributed to meat and poultry products.¹ These data highlight that FSIS plays an important role in helping achieve national public health goals aimed at reducing foodborne illness caused by Salmonella. Although findings from a recent analysis of FSIS data show that there has been an overall reduction in the occurrence of Salmonella on meat and poultry products over the past 20 years,² there is still more work to be done. The food safety community did not meet the 2020 national public health goal for reduction of Salmonella illnesses, and FSIS remains committed to working toward achieving the Healthy People ³ target set for 2030.

¹ Interagency Food Safety Analytics Collaboration. Foodborne illness source attribution estimates for 2017 for Salmonella, Escherichia coli O157, Listeria monocytogenes, and Campylobacter using multi-year outbreak surveillance data, United States. GA and DC: U.S. Department of Health and Human Services, CDC, FDA, USDA-FSIS. 2019.

² Williams et al. 2020. Changes in Salmonella Contamination in Meat and Poultry Since the Introduction of the Pathogen Reduction: Hazard Analysis and Critical Control Point Rule. Accepted for Publication. Journal of Food Protection (early view) https://doi.org/10.4315/JFP-20-126.

³ https://www.healthypeople.gov/2020/topics-objectives/topic/food-safety.

Public Meeting

FSIS is announcing that it will hold a virtual public meeting on September 22, 2020, to discuss issues related to the foodborne pathogen Salmonella. At this meeting, FSIS will present its Roadmap to Reducing Salmonella, which describes how FSIS advances programs and policies that are science-based, data-driven, and promote innovation to reduce Salmonella and other pathogens in meat, poultry, and egg products. The roadmap describes current FSIS programs and future activities to drive progress toward meeting the Healthy People 2030 public health goals. FSIS, with speakers from ARS, FDA, and CDC, will highlight some of these efforts and describe the science and data that supports them. An agenda will be published online before the public meeting. FSIS will finalize the agenda on or before the meeting dates and post it on the FSIS website at: http://www.fsis.usda.gov/meetings. Topics will include:

• Salmonella presence in FSIS regulated products;

• Modernization of inspection systems;

• The role of FSIS Laboratories and sampling methods to reduce Salmonella in FSIS regulated products;

• Salmonella performance standards;

• Consumer research and education; and

• Future scientific strategies for controlling Salmonella

Registration and Meeting Materials

There is no fee to register for the public meeting, but pre-registration is mandatory for participants attending. All attendees must register online at https://ems8.intellor.com/?p=831058&do=register&t=6, after which they will receive an email acknowledging their registration. Stakeholders who wish to speak at the meeting must notify FSIS during registration.

Public Comments and Participation in Meetings

Public Comments: Oral Comments

Stakeholders will have an opportunity to provide oral comments during the public meeting. As mentioned above, stakeholders must notify FSIS during registration of their wish to speak at the meeting. Stakeholders who do not notify FSIS during registration of their wish to speak will not have the opportunity to comment on the day of the public meeting. Due to the anticipated high level of interest in the opportunity to make public comments and the limited time available to do so, FSIS will do its best to accommodate all persons who registered and requested to provide oral comments, and will limit all speakers to three minutes. FSIS encourages persons and groups who have similar interests to consolidate their information for presentation by a single representative.

Public Questions

During the meeting, FSIS will host a roundtable discussion with subject matter experts. Questions for the roundtable discussion panel should be submitted in advance, to FRN@usda.gov by September 10, 2020.

Transcripts

As soon as the meeting transcripts are available, they will be accessible on the FSIS website at: http://www.fsis.usda.gov/wps/portal/fsis/newsroom/meetings. The transcripts may also be viewed at the FSIS Docket Room at the addressed listed above.

Additional Public Notification

Public awareness of all segments of rulemaking and policy development is important. Consequently, FSIS will announce this Federal Register publication online through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination, any person in the United States under any program or activity conducted by the USDA.

How To File a Complaint of Discrimination

To file a complaint of discrimination, complete the USDA Program Discrimination Complaint Form, which may be accessed online at: http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done at Washington, DC.
Theresa Nintemann,
Deputy Administrator.

[FR Doc. 2020-17827 Filed 8-13-20; 8:45 am]

BILLING CODE 3410-DM-P